CONSUMER PRODUCT SAFETY COMMISSION

[Docket No. CPSC-2012-0030]

Agency Information Collection Activities; Extension of Approval of Information Collection; Testing and Recordkeeping Requirements for Carpets and Rugs

AGENCY: Consumer Product Safety Commission.

ACTION: Notice of information collection; request for comment.

SUMMARY: As required by the Paperwork Reduction Act of 1995, the Consumer Product Safety Commission (CPSC or Commission) announces that the Commission has submitted to the Office of Management and Budget (OMB) a request for extension of approval of information collection requirements for manufacturers and importers of carpets and rugs in the Standard for the Surface Flammability of Carpets and Rugs and the Standard for the Surface Flammability of Small Carpets and Rugs, issued under the Flammable Fabrics Act (FFA). OMB previously approved the collection of information under Control Number 3041-0017. OMB's most recent extension of approval will expire on March 31, 2025. On December 10, 2024, CPSC published a notice in the Federal Register to announce the agency's intention to seek extension of approval of the collection of information. The Commission did not receive any public comments. Therefore, by publication of this notice, the Commission announces that CPSC has submitted to the OMB a request for extension of approval of that collection of information.

DATES: Submit comments on the collection of information by April 4, 2025.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Written comments that are sent to OMB also should be submitted electronically at http://www.regulations.gov, under Docket No. CPSC-2012-0030.

FOR FURTHER INFORMATION CONTACT: Cynthia Gillham, Consumer Product Safety Commission, 4330 East West Highway, Bethesda, MD 20814; (301) 504-7791, or by email to: pra@cpsc.gov.

SUPPLEMENTARY INFORMATION: CPSC seeks to renew the following currently approved collection of information:

Title: Standard for the Flammability of Carpets and Rugs (FF-1-70), 16 CFR 1630, and Standard for the Flammability of Small Carpets and Rugs (FF 2-70), 16 CFR 1631.

OMB Number: 3041-0017.

Type of Review: Renewal of collection.

Frequency of Response: On occasion.

Affected Public: Manufacturers and importers of carpets and rugs.

General Description of Collection: Under the FFA, the Standard for the Surface Flammability of Carpets and Rugs (16 CFR part 1630) and the Standard for the Surface Flammability of Small Carpets and Rugs (16 CFR part 1631) establish requirements to reduce the flammability of carpets and rugs. 15 U.S.C. 1191-1204. The standards' provisions include requirements for testing and recordkeeping for manufacturers and importers who furnish guaranties subject to the carpet and rug flammability standards. The Consumer Product Safety Improvement Act of 2008 (CPSIA) established product certification requirements for applicable consumer product safety standards and rules. 15 U.S.C. 2063. Manufacturers and importers of carpets and rugs intended for general use must certify in a general conformity certificate (GCC) that the product complies with the applicable standards based on testing or a reasonable testing program. 16 CFR part 1110. Manufacturers and importers of children's carpets and rugs must certify in a children's product certificate (CPC) that the product complies with the applicable standards based on testing by a CPSC-accredited third-party conformity assessment body. Id. Under the FFA, a manufacturer or importer can issue a guaranty of compliance, based on reasonable and representative testing, to retailers, distributors, or other manufacturers to declare that a product conforms with the applicable flammability standards. 15 U.S.C. 1197. 16 CFR 1608.

Estimated Number of Respondents: Approximately 120 manufacturers and importers of carpets and rugs are subject to the information collection requirements under the FFA. An estimated 100 manufacturers and importers of carpets and rugs issue a GCC or a CPC. In addition, an estimated 20 such firms elect to issue a guaranty of compliance with the FFA. Staff estimates that the average firm issuing a GCC, CPC, or guaranty under the FFA is required to conduct, on average, 100 tests per year, although the actual number of tests required by a given firm may vary, depending upon the number of carpet styles and the annual production volume.

Estimated Time per Response: For firms issuing a GCC or CPC, staff estimates that the time to conduct each test is two hours, including the time required to establish and maintain the test records. For firms issuing a guaranty of compliance, staff estimates that the time to conduct each test is 2.5 hours, including the time required to establish and maintain the test records.

Total Estimated Annual Burden: The total estimated annualized burden to respondents is 25,000 hours (20,000 hours for firms that issue a GCC/CPC plus 5,000 hours for firms that issue a guaranty of compliance).

Total Estimated Annual Cost to Respondents: The total annualized costs to all respondents for the hour burden for the collection of information is estimated to be as high as $1,840,250, using a mean hourly employer cost-per-hour-worked of $73.61 (Bureau of Labor Statistics: Total compensation rates for private industry workers in management, professional, and related occupations, Table 4, June 2024, https://www.bls.gov/news.release/archives/ecec_09102024.pdf) (25,000 hours × $73.61).

Alberta E. Mills,
Secretary, Consumer Product Safety Commission.

[FR Doc. 2025-03519 Filed 3-4-25; 8:45 am]

BILLING CODE 6355-01-P